POSTAL SERVICE

39 CFR Part 111

POSTNET Barcode Discontinuation

AGENCY: Postal Service™.

ACTION: Proposed rule.

SUMMARY: The Postal Service proposes to revise various sections of the Mailing Standards of the United States Postal Service, Domestic Mail Manual (DMM®) to set the timetable for discontinuing the use of POSTNET™ barcodes on all types of mail for price eligibility.

DATES: We must receive comments on or before April 2, 2012.

ADDRESSES: Mail or deliver written comments to the Manager, Product Classification, U.S. Postal Service, 475 L'Enfant Plaza SW., Room 4446, Washington, DC 20260-5015. You may inspect and photocopy all written comments at USPS® Headquarters Library, 475 L'Enfant Plaza SW., 11th Floor N, Washington, DC by appointment only between the hours of 9 a.m. and 4 p.m., Monday through Friday by calling 1-202-268-2906 in advance. Email comments, containing the name and address of the commenter, may be sent to: MailingStandards@usps.gov, with a subject line of “POSTNET Discontinuation.”

FOR FURTHER INFORMATION CONTACT: Bill Chatfield, 202-268-7278 or Jeff Freeman, 202-268-2922.

SUPPLEMENTARY INFORMATION:

The Postal Service's proposed rule includes the basis for discontinuing use of POSTNET barcodes and allowing only Intelligent Mail® barcodes (IMb™) for automation price eligibility purposes. The Postal Service understands that many mailers currently use POSTNET barcodes and we are committed to providing information to and working with individual mailers and software providers to ensure that the use of an Intelligent Mail barcode is achievable for all mailing customers. This proposed rule also contains the proposed revisions to the DMM to implement the changes.

Proposed Change for Letters and Flats

For the past several years, both USPS® and the mailing industry have used the Intelligent Mail barcode to gain information about letters and flats as they move from induction to delivery. Postal customers use this information for numerous purposes: to anticipate store traffic, to coordinate sales and marketing efforts, and to design better “just in time” inventory and fulfillment systems. USPS also uses this information for multiple purposes: to fulfill regulatory commitments, to manage staffing and workload, and to improve service. We are proposing that the use of the IMb would be required for all automation letters, including Business Reply Mail® letters that qualify for Qualified Business Reply Mail prices and Permit Reply Mail letters, and automation flats by January 2013.

Proposed Change for Letters Only

We propose to revise DMM 202.5.0 to require barcode clear zones on all letters and cards claiming an automation letter price or automation carrier route letter price, and to require all machinable letters to have barcode clear zones. Reserving a barcode clear zone in the bottom right of the mailpiece allows for postal equipment to print and read barcode routing information in cases where no customer-applied address block barcode is present, or is unreadable. It reduces processing costs by increasing barcode recognition rates, keeping mail on automation equipment, and ensures mailpiece visibility. Standards for background and print reflectance (in DMM 708.4.4) are also needed to ensure readability of barcodes in the clear zone.

Proposed Changes for Parcels

Currently, the POSTNET barcode is an available option to satisfy the parcel barcode requirement for Standard Mail® parcels. We propose to eliminate the use of the POSTNET barcode on parcels, unless it is printed in the address block. eVS® parcels would not be allowed to bear POSTNET barcodes in any location.

General

We encourage customers to comment on the proposed changes. This proposed rule provides the opportunity for mailers to make adjustments to their operations before the effective date.

Although we are exempt from the notice and comment requirements of the Administrative Procedure Act [5 U.S.C 553 (b), (c)] regarding proposed rulemaking by 39 U.S.C. 410 (a), we invite public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C 301-307; 18 U.S.C. 1692-1737:39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

200 Commercial Letters and Cards

201 Physical Standards

* * * * *

3.0 Physical Standards for Machinable and Automation Letters and Cards

3.1 Basic Standards for Automation Letters and Cards

Letters and cards claimed at any machinable, automation, or Standard Mail automation carrier route letter price, must meet the standards in 3.0 and in 202.5.1 for barcode clear zone. Unless prepared as a folded self-mailer, booklet, or postcard under 3.14 through 3.16, each machinable or automation letter must be a sealed envelope (the preferred method) or, if unenveloped, must be sealed or glued completely along all four sides.

* * * * *

3.17 Enclosed Reply Cards and Envelopes

3.17.1 Basic Standard

Mailers may enclose reply cards or envelopes, addressed for return to a domestic delivery address, within automation mailings subject to provisions in 3.0 for enclosures. See 505.1.0 for Business Reply Mail (BRM) standards, 604.4.5.2 for postage evidencing reply mail (also known as Metered Reply Mail or MRM) standards, and 3.17.2 regarding Courtesy Reply Mail (CRM).

[Revise the tile and text of 3.17.2 as follows:]

3.17.2 Courtesy Reply Mail

Courtesy reply mail (CRM) is reply mail other than BRM or MRM enclosed in other mail, with or without prepayment of postage, for return to the address on the reply piece. If postage is required, the customer returning the piece affixes the applicable First-Class Mail postage. Each piece must meet the physical standards in 1.0 or 2.0.

* * * * *

202 Elements on the Face of a Mailpiece

* * * * *

3.0 Placement and Content of Mail Markings

* * * * *

3.5 Exceptions to Markings

Exceptions are as follows:

[Revise the first sentence in item 3.5a as follows:]

a. Automation letters. Automation letters do not require an “AUTO” marking if they bear an Intelligent Mail barcode with a delivery point routing code in the address block or on an insert visible through a window.

* * * * *

5.0 Barcode Placement

5.1 Barcode Clear Zone

[Revise the first sentence of 5.1 as follows:]

Each letter-size piece in mailings at machinable letter prices and in automation or Enhanced Carrier Route mailings at automation letter prices must have a barcode clear zone as described below. * * *

* * * * *

5.2 General Barcode Placement for Letters

[Revise the first sentence of 5.2, and add a new second sentence, as follows:]

Automation price letters and letters claimed at automation Enhanced Carrier Route saturation or high density prices must bear an Intelligent Mail barcode with a delivery point routing code. A nonautomation letter may bear an Intelligent Mail barcode or a POSTNET barcode, under 708.4.0. * * *

* * * * *

5.4 5-Digit and ZIP+4 Barcode Permissibility

[Revise the first two sentences of 5.4 as follows:]

An automation letter or a letter claimed at automation Enhanced Carrier Route saturation or high density prices may not bear a 5-digit or ZIP+4 barcode in the lower right corner (barcode clear zone). The piece may bear a 5-digit or ZIP+4 barcode in the address block only if an Intelligent Mail barcode with a delivery point routing code appears in the lower right corner.

* * * * *

[Delete current 5.6, DPBC Numeric Equivalent, in its entirety, and renumber current 5.7 through 5.11 as new 5.6 through 5.10.]

5.6 Barcode in Address Block

When the barcode is included as part of the address block:

* * * * *

[Revise renumbered items 5.6c through 5.6e as follows:]

c. The minimum clearance between the Intelligent Mail barcode and any information line above or below it within the address block must be at least 0.028 inch. The separation between the barcode and top line or bottom line of the address block must not exceed 0.625 (⅝) inch. The clearance between the leftmost and rightmost bars and any adjacent printing must be at least 0.125 (⅛) inch.

d. If a window envelope is used, the clearance between the leftmost and rightmost bars and any printing or window edge must be at least 0.125 (⅛) inch. The clearance between the Intelligent Mail barcode and the top and bottom window edges must be at least 0.028 inch. These clearances must be maintained during the insert's range of movement in the envelope. Address block windows on heavy letter mail must be covered. Covers for address block windows are subject to 5.10.

e. If an address label is used, a clear space of at least 0.125 (⅛) inch must be left between the barcode and the left and right edges of the address label. The clearance between the Intelligent Mail barcode and the top and bottom edges of the address label must be at least 0.028 inch.

* * * * *

[Revise the title of renumbered 5.7 as follows:]

5.7 Barcode on Insert in Barcode Window

If the barcode is printed on an insert to appear through a barcode window in the lower right corner of an envelope:

[Revise renumbered item 5.7a as follows:]

a. The envelope and window must meet the physical standards in 5.9 through 5.10.

* * * * *

[Revise renumbered item 5.7c as follows:]

c. When the insert showing through the window is moved to any of its limits inside the envelope, the entire barcode must remain within the barcode clear zone. In addition, a clear space must be maintained that is at least 0.125 (⅛) inch between the barcode and the left and right edges of the window, at least 0.1875 (3/16) inch between the barcode and the bottom edge of the mailpiece, and at least 0.028 inch between the barcode and the top edge of the window.

* * * * *

220 Priority Mail

223 Prices and Eligibility

* * * * *

3.0 Basic Standards for Priority Mail

* * * * *

3.2 Additional Standards for Critical Mail Letters

* * * Critical Mail letters also must:

* * * * *

[Revise item 3.2b as follows:]

b. Bear a delivery address that includes the correct ZIP Code, ZIP+4 code, or numeric equivalent to the delivery point routing code and which meets address quality standards in 233.5.5 and 708.3.0.

* * * * *

230 First-Class Mail

233 Prices and Eligibility

* * * * *

4.0 Additional Eligibility Standards for Nonautomation First-Class Mail Letters

* * * * *

4.2 Barcodes

[Revise the text of 4.2 as follows:]

Any Intelligent Mail barcode on a mailpiece in nonautomation First-Class Mail mailings must be correct for the delivery address and meet the standards in 202.5.0, 708.3.0, and 708.4.0.

* * * * *

5.0 Additional Eligibility Standards for Automation First-Class Mail Letters

5.1 Basic Standards for Automation First-Class Mail Letters

All pieces in a First-Class Mail automation mailing must:

* * * * *

[Revise item 5.1e as follows:]

e. Bear an accurate Intelligent Mail barcode encoded with the correct delivery point routing code, matching the delivery address and meeting the standards in 202.5.0 and 708.4.0.

* * * * *

5.5 Address Standards for Barcoded Pieces

* * * * *

[Revise the title and text of 5.5.3 as follows:]

5.5.3 Numeric Delivery Point Routing Code

The numeric equivalent to the delivery point routing code is formed by adding two digits directly after the ZIP+4 code.

* * * * *

[Delete 5.6, Reply Cards and Envelopes Enclosed in Automation Price First-Class Mail, in its entirety.]

* * * * *

240 Standard Mail

243 Prices and Eligibility

* * * * *

3.0 Basic Standards for Standard Mail Letters

* * * * *

3.3 Additional Basic Standards for Standard Mail

Each Standard Mail mailing is subject to these general standards:

* * * * *

[Revise item 3.3i as follows:]

i. Any Intelligent Mail barcode on a mailpiece must be correct for the delivery address and meet the standards in 202.5.0, 708.3.0, and 708.4.0.

* * * * *

6.0 Additional Eligibility Standards for Enhanced Carrier Route Standard Mail Letters

6.1 General Enhanced Carrier Route Standards

* * * * *

6.1.2 Basic Eligibility Standards

All pieces in an Enhanced Carrier Route or Nonprofit Enhanced Carrier Route Standard Mail mailing must:

* * * * *

[Revise item 6.1.2d as follows:]

d. Bear a delivery address that includes the correct ZIP Code, ZIP+4 code, or numeric equivalent to the delivery point routing code and which meets these address quality standards:

* * * * *

[Revise item 6.1.2g as follows:]

g. Meet the requirements for automation compatibility in 201.3.0 and bear an accurate Intelligent Mail barcode encoded with the correct delivery point routing code matching the delivery address and meeting the standards in 202.5.0 and 708.4.0, except as provided in 6.1.2h. Pieces prepared with a simplified address format are exempt from the automation-compatibility and barcode requirements. Letters entered under the full-service Intelligent Mail automation option also must meet the standards in 705.24.0.

* * * * *

6.4 High Density Enhanced Carrier Route Standards

[Revise the title and text of 6.4.1 as follows:]

6.4.1 Additional Eligibility Standards for High Density Prices

In addition to the eligibility standards in 6.1, high density letter-size mailpieces must be in a full carrier route tray or in a carrier route bundle of 10 or more pieces placed in a 5-digit (or 3-digit) carrier routes tray. Except for pieces with a simplified address, pieces that are not automation-compatible or not barcoded are mailable only at the nonautomation high density letter prices.

* * * * *

6.5 Saturation ECR Standards

[Revise the title and text of 6.5.1 as follows:]

6.5.1 Additional Eligibility Standards for Saturation Prices

In addition to the eligibility standards in 6.1, saturation letter-size mailpieces must be in a full carrier route tray or in a carrier route bundle of 10 or more pieces placed in a 5-digit (or 3-digit) carrier tray. Except for pieces with a simplified address, pieces that are not automation-compatible or not barcoded are mailable at nonautomation saturation letter prices.

* * * * *

7.0 Eligibility Standards for Automation Standard Mail

7.1 Basic Eligibility Standards for Automation Standard Mail

All pieces in a Regular Standard Mail or Nonprofit Standard Mail automation mailing must:

* * * * *

[Revise item 7.1d as follows:]

d. Bear a delivery address that includes the correct ZIP Code, ZIP+4 code, or numeric equivalent to the delivery point routing code and which meets these address quality standards:

* * * * *

[Revise item 7.1e as follows:]

e. Bear an accurate Intelligent Mail barcode encoded with the correct delivery point routing code, matching the delivery address and meeting the standards in 202.5.0 and 708.4.0.

* * * * *

7.5 Address Standards for Barcoded Pieces

* * * * *

[Revise the title and text of 7.5.3 as follows:]

7.5.3 Numeric Delivery Point Routing Code

The numeric equivalent to the delivery point routing code is formed by adding two digits directly after the ZIP+4 code.

* * * * *

[Delete 7.6, Enclosed Reply Cards and Envelopes, in its entirety.]

[Renumber current 7.7 as new 7.6.]

* * * * *

300 Commercial Mail Flats

* * * * *

302 Elements on the Face of a Mailpiece

* * * * *

2.0 Address Placement

* * * * *

2.4 Type Size and Line Spacing

* * * These additional standards apply to automation pieces:

* * * * *

[Revise item 2.4c as follows:]

c. For pieces that bear an Intelligent Mail barcode with a delivery point routing code under 708.4.3, mailers may print the delivery address in a minimum of 6-point type (each character must be at least 0.065 inch high) if all capital letters are used.

* * * * *

5.0 Barcode Placement

[Revise the title and text of 5.1 as follows:]

5.1 Barcode Placement for Flats

On any flat-size piece claimed at automation prices, the piece may bear one Intelligent Mail barcode. The barcode may be anywhere on the address side as long as it is at least ⅛ inch from any edge of the piece. The portion of the surface of the piece on which the barcode is printed must meet the barcode dimensions and spacing requirements in 708.4.2.5, and the reflectance standards in 708.4.4. Intelligent Mail barcodes are subject to standards in 708.4.3.2. POSTNET barcodes must not appear on the address side of any automation flat, but a POSTNET barcode (under 708.4.0) may appear on the address side of any nonautomation flat. Other non-USPS barcodes may appear on the address side of a flat if the barcode format is not discernable to automated postal equipment.

* * * * *

[Delete current 5.2, Applying One Barcode, and 5.3, Applying Second Barcode, in their entirety.]

[Renumber current 5.4 through 5.7 as new 5.2 through 5.5.]

5.2 5-Digit and ZIP+4 Barcodes

[Revise the text of renumbered 5.2 as follows:]

An automation flat-size piece must not bear a 5-digit or a ZIP + 4 barcode.

[Revise the title and text of renumbered 5.3 as follows:]

5.3 Delivery Point Routing Code Numeric Equivalent

In automation mailings only, the numbers corresponding to the delivery point routing code may appear in the delivery address. If read from left to right: a correct numeric equivalent consists of five digits, a hyphen, and seven digits.

5.4 Barcode in Address Block

When an Intelligent Mail barcode is included as part of the address block:

* * * * *

[Revise renumbered items 5.4c through 5.4e as follows:]

c. The minimum clearance between the barcode and any information line above or below it within the address block must be at least 0.028 inch, and the separation between the barcode and top line or bottom line of the address block must not exceed 0.625 (⅝) inch. The clearance between the leftmost and rightmost bars and any adjacent printing must be at least 0.125 (⅛) inch.

d. If a window envelope is used, the clearance between the leftmost and rightmost bars and any printing or window edge must be at least 0.125 (⅛) inch, and the clearance between the barcode and the top and bottom window edges must be at least 0.028 inch. These clearances must be maintained during the insert's range of movement in the envelope. Covers for address block windows are subject to 5.5. Window envelopes also must meet the specifications in 601.6.3.

e. If an address label is used, a clear space of at least 0.125 (⅛) inch must be left between the barcode and the left and right edges of the address label, and the clearance between the barcode and the top and bottom edges of the address label must be at least 0.028 inch.

* * * * *

320 Priority Mail

323 Prices and Eligibility

* * * * *

3.0 Basic Standards for Priority Mail

* * * * *

3.2 Additional Standards for Critical Mail Flats

[Revise the introductory text of 3.2 as follows:]

Critical Mail, a category of Priority Mail, is available for barcoded, automation-compatible letters and barcoded, automation flats. With the exception of restricted mail as described in 601.8.0, any mailable matter may be mailed via Critical Mail. USPS-produced Critical Mail flat-size envelopes must be used for all Critical Mail flats. Flats may not exceed 13 ounces in weight. Critical Mail flats also must:

* * * * *

[Revise item 3.2b as follows:]

b. Bear a delivery address that includes the correct ZIP Code, ZIP+4 code, or numeric equivalent to the delivery point routing code and which meets address quality standards in 333.5.5 and 708.3.0.

* * * * *

330 First-Class Mail

333 Prices and Eligibility

* * * * *

4.0 Additional Eligibility Standards for Nonautomation First-Class Mail Flats

* * * * *

4.2 Barcodes on Nonautomation First-Class Mail

[Revise the text of 4.2 as follows:]

Any barcode on a mailpiece in a First-Class Mail nonautomation flats mailing must be correct for the delivery address and meet the standards in 708.3.0 and 708.4.0.

* * * * *

5.0 Additional Eligibility Standards for Automation First-Class Mail Flats

5.1 Basic Standards for Automation First-Class Mail

All pieces in a First-Class Mail automation flats mailing must:

* * * * *

[Revise items 5.1d through e as follows:]

d. Bear a delivery address that includes the correct ZIP Code, ZIP+4 code, or numeric equivalent to the delivery point routing code and which meets these address quality standards:

1. The address matching and coding standards in 5.5 and 708.3.0.

2. If an alternative addressing format is used, the additional standards in 602.3.0.

e. Bear an accurate Intelligent Mail barcode encoded with the correct delivery point routing code, matching the delivery address and meeting the standards in 302.5.0 and 708.4.0, either on the piece or on an insert showing through a window.

* * * * *

5.5 Address Standards for Barcoded Pieces

* * * * *

[Revise the title and text of 5.5.3 as follows:]

5.5.3 Numeric Delivery Point Routing Code

A numeric equivalent of the delivery point routing code consists of five digits followed by a hyphen and six digits as specified in 708.4.2.4. The numeric equivalent is formed by adding two digits directly after the ZIP+4 code.

* * * * *

[Delete 5.6, Reply Cards and Envelopes Enclosed in Automation Price First-Class Mail, in its entirety.]

* * * * *

340 Standard Mail

343 Prices and Eligibility

* * * * *

3.0 Basic Standards for Standard Mail Flats

* * * * *

3.3 Additional Basic Standards for Standard Mail

Each Standard Mail mailing is subject to these general standards:

* * * * *

[Revise item 3.3i as follows:]

i. Any barcode on a mailpiece must be correct for the delivery address and meet the standards in 302.5.0, 708.3.0, and 708.4.0.

* * * * *

6.0 Additional Eligibility Standards for Enhanced Carrier Route Standard Mail Flats

6.1 General Enhanced Carrier Route Standards

* * * * *

6.1.2 Basic Eligibility Standards

All pieces in an Enhanced Carrier Route or Nonprofit Enhanced Carrier Route Standard Mail mailing must:

* * * * *

[Revise item 6.1.2d as follows:]

d. Bear a delivery address that includes the correct ZIP Code, ZIP+4 code, or numeric equivalent to the delivery point routing code and which meets these address quality standards:

* * * * *

7.0 Additional Eligibility Standards for Automation Standard Mail Flats

7.1 Basic Eligibility Standards for Automation Standard Mail

All pieces in a Regular Standard Mail or Nonprofit Standard Mail automation mailing must:

* * * * *

[Revise item 7.1d as follows:]

d. Bear a delivery address that includes the correct ZIP Code, ZIP+4 code, or numeric equivalent to the delivery point routing code and which meets these address quality standards:

* * * * *

[Revise item 7.1e as follows:]

e. Bear an accurate Intelligent Mail barcode encoded with the correct delivery point routing code, matching the delivery address and meeting the standards in 302.5.0, and 708.4.0.

* * * * *

7.4 Address Standards for Barcoded Pieces

* * * * *

[Revise the title and text of 7.4.3 as follows:]

7.4.3 Numeric Delivery Point Routing Code

A numeric equivalent of the delivery point routing code consists of five digits followed by a hyphen and six digits as specified in 708.4.2. The numeric equivalent is formed by adding two digits directly after the ZIP+4 code.

* * * * *

[Delete 7.5, Enclosed Reply Cards and Envelopes, in its entirety.]

* * * * *

360 Bound Printed Matter

363 Prices and Eligibility

1.0 Prices and Fees for Bound Printed Matter

* * * * *

1.1.4 Barcoded Discount—Flats

[Revise the text of 1.1.4 as follows:]

For discount, see Notice 123—Price List. See 4.1 and 6.1 for eligibility information.

* * * * *

4.0 Price Eligibility for Bound Printed Matter Flats

4.1 Price Eligibility

* * * Price categories are as follows:

* * * * *

[Revise item 4.1d as follows:]

d. Barcoded Discount—Flats. The barcoded discount applies to BPM flats that meet the requirements for automation compatibility in 301.3.0 and bear an accurate Intelligent Mail barcode encoded with the correct delivery point routing code. See 6.1 for more information.

* * * * *

6.0 Additional Eligibility Standards for Barcoded Bound Printed Matter Flats

6.1 Basic Eligibility Standards for Barcoded Bound Printed Matter

[Revise the text of 6.1 as follows:]

The barcode discount applies only to BPM flat-size pieces that bear an Intelligent Mail barcode encoded with the correct delivery point routing code, matching the delivery address and meeting the standards in 302.5.0 and 708.4.0. The pieces must be part of a nonpresorted price mailing of 50 or more flat-size pieces or part of a presort price mailing of at least 300 BPM flat-size pieces prepared under 705.8.0 and 365.7.0. Pieces may be optionally prepared under 705.14.0. The barcode discount is not available for flat-size pieces mailed at Presorted DDU prices or carrier route prices. To qualify for the barcode discount, the flat-size pieces must meet the standards in 301.3.0.

* * * * *

6.4 Address Standards for Barcode Discounts

* * * * *

[Revise the title and text of 6.4.3 as follows:]

6.4.3 Numeric Delivery Point Routing Code

A numeric equivalent of the delivery point routing code consists of five digits followed by a hyphen and six digits as specified in 708.4.0. The numeric equivalent is formed by adding two digits directly after the ZIP+4 code.

* * * * *

400 Commercial Parcels

* * * * *

402 Elements on the Face of a Mailpiece

* * * * *

4.0 General Barcode Placement for Parcels

* * * * *

[Revise the title and text of current 4.3 as follows:]

4.3 Intelligent Mail Barcodes and POSTNET Barcodes

Intelligent Mail barcodes and POSTNET barcodes do not meet barcode eligibility requirements for parcels and do not qualify for any barcode-related prices for parcels, but one barcode may be included only in the address block on a parcel, except on eVS parcels. An Intelligent Mail barcode or POSTNET barcode in the address block must be placed according to 302.5.4.

[Delete current 4.3.1, General Placement of POSTNET Barcodes, 4.3.2, POSTNET Barcode in Address Block, and 4.3.3, Window Cover, in their entirety.]

* * * * *

440 Standard Mail

443 Prices and Eligibility

* * * * *

4.0 Price Eligibility for Standard Mail

* * * * *

4.4 Surcharge

Unless prepared in carrier route or 5-digit/scheme containers, Standard Mail parcels are subject to a surcharge if:

* * * * *

[Revise item 4.4c as follows:]

c. The irregular parcels do not bear a GS1-128 routing barcode or an Intelligent Mail package barcode for the delivery address.

* * * * *

6.0 Additional Eligibility Standards for Enhanced Carrier Route Standard Mail Marketing Parcels

6.1 General Enhanced Carrier Route Standards

* * * * *

6.1.2 Basic Eligibility Standards

All pieces in an Enhanced Carrier Route or Nonprofit Enhanced Carrier Route mailing of Standard Mail Marketing parcels must:

* * * * *

[Revise item 6.1.2d as follows:]

d. Bear a delivery address that includes the correct ZIP Code, ZIP+4 code, or numeric equivalent to the delivery point routing code and which meets these addressing standards:

* * * * *

500 Additional Mailing Services

* * * * *

505 Return Services

1.0 Business Reply Mail (BRM)

* * * * *

1.3 Qualified Business Reply Mail (QBRM) Basic Standards

1.3.1 Description

Qualified Business Reply Mail (QBRM) is First-Class Mail that:

* * * * *

[Revise item 1.3.1d as follows:]

d. Is authorized to mail at QBRM prices and fees under 1.3.2. During the authorization process, the mailer is assigned a unique ZIP+4 code for each price category of QBRM to be returned under the system (one for card-price pieces, one for letter-size pieces weighing 1 ounce or less, and one for letter-size pieces weighing over 1 ounce up to and including 2 ounces).

* * * * *

[Revise item 1.3.1f as follows:]

f. Bears the correct Intelligent Mail barcode that corresponds to the unique ZIP+4 code in the address on each piece distributed. The barcode must be correctly prepared under 1.9 and 708.4.0.

* * * * *

1.8 Format Elements

1.8.1 General

* * * * *

[Revise Exhibit 1.8.1 to depict an IMb rather than a POSTNET barcode.]

* * * * *

1.8.6 Delivery Address

The complete address (including the permit holder's name, delivery address, city, state, and BRM ZIP Code) must be printed directly on the piece, except as allowed under 1.7.5 or under item a below, subject to these conditions:

[Revise item 1.8.6a as follows:]

a. Preprinted labels with only delivery address information (including an Intelligent Mail barcode under 1.9) are permitted, but the permit holder's name and other required elements must be printed directly on the BRM piece.

* * * * *

1.9 Additional Standards for Letter-Size and Flat-Size BRM

[Revise the text of 1.9 to incorporate the current item 1.9a, including items a1 and a2, into the introductory text and revise the new introductory text as follows:]

In addition to the format standards in 1.8, QBRM letters and cards must be barcoded with an Intelligent Mail barcode. When an Intelligent Mail barcode is printed on any BRM pieces, it must contain the barcode ID, service type ID, and correct ZIP+4 routing code, as specified under 708.4.3. Permit holders must use the ZIP+4 codes and equivalent Intelligent Mail barcodes assigned by the USPS. The IMb must be placed on the address side of the piece and positioned as part of the delivery address block under 202.5.7 or within the barcode clear zone in the lower right corner of the piece if printed directly on the piece.

* * * * *

2.0 Permit Reply Mail (PRM)

* * * * *

2.3 Format Elements

2.3.1 General

[Revise exhibit 2.3.1 to include an IMb rather than a POSTNET barcode.]

* * * * *

2.3.6 Delivery Address

[Revise the text of 2.3.6 as follows:]

The complete address (including the permit holder's name, delivery address, city, state, and ZIP+4 code) must be printed on the piece. PRM pieces must bear an Intelligent Mail barcode encoded with the correct delivery point routing code, matching the delivery address and meeting the standards in 202.5.0 and 708.4.0.

* * * * *

700 Special Standards

* * * * *

708 Technical Standards

* * * * *

[Revise the title of 4.0 as follows:]

4.0 Standards for Intelligent Mail and POSTNET Barcodes

4.1 General

[Revise the text of 4.1 as follows:]

Intelligent Mail barcodes and POSTNET (Postal Numeric Encoding Technique) barcodes are USPS-developed methods to encode ZIP Code information on mail that can be read for sorting by automated machines. Intelligent Mail barcodes also encode other tracking information. POSTNET barcodes do not qualify for automation pricing.

* * * * *

We will publish an appropriate amendment to 39 CFR part 111 to reflect these changes if our proposal is adopted.

Stanley F. Mires,
Attorney, Legal Policy & Legislative Advice.

[FR Doc. 2012-5050 Filed 3-1-12; 8:45 am]

BILLING CODE 7710-12-P